DEPARTMENT OF DEFENSE

Department of the Army, Corps of Engineers

Notice of Intent To Prepare a Draft Environmental Impact Statement/Environmental Impact Report (DEIS/DEIR) for a Permit Application for a Proposed Aggregate Terminal Project on Pier D in the Port of Long Beach, Los Angeles County, CA

AGENCY: Department of the Army—U.S. Army Corps of Engineers, DoD.

ACTION: Notice of Intent.

SUMMARY: The U.S. Army Corps of Engineers (Corps) is considering a permit application from Eagle Rock Aggregates, Inc., a division of Polaris Minerals Corporation, to develop an aggregate receiving and storage terminal on privately held land within the Port of Long Beach (Port). The Proposed Action would be subject to the Corps permitting authority under Section 10 of the River and Harbors Act and include the following in-water and land-based elements: dredging, wharf improvements, installation of truck scales and conveyor system for aggregate.

The primary Federal concerns are the dredging and wharf improvements within waters of the United States and the potential impacts to the natural and human environment. Therefore, in accordance with the National Environmental Policy Act (NEPA), the Corps is requiring the preparation of an Environmental Impact Statement (EIS) prior to consideration of any permit action. The Corps may ultimately make a determination to permit or deny the Proposed Action, or permit or deny alternatives to the Proposed Action.

Pursuant to the California Environmental Quality Act (CEQA), the Port will serve as the lead agency for the preparation of an Environmental Impact Report (EIR) for its consideration of development approvals within its jurisdiction. The Corps and the Port have agreed to jointly prepare a DEIS/DEIR in order to optimize efficiency and avoid duplication. The DEIS/DEIR is intended to be sufficient in scope to address the Federal, state, and local requirements and environmental issues concerning the proposed activities and permit approvals.

FOR FURTHER INFORMATION CONTACT: Questions about the Proposed Action and DEIS/DEIS should be directed to Antal Szijj, Corps of Engineers, at (805) 585-2147. Comments regarding the scope of the DEIS/DEIR should be addressed to: U.S. Army Corps of Engineers, Los Angeles District, Ventura Field Office, ATTN: Antal Szijj, 2151 Allesandro Drive, Suite 110, Ventura, CA 93001. Alternatively, comments can be e-mailed to antal.j.szijj@usace.army.mil. Comments should also be sent to Richard D. Cameron, Director of Environmental Planning, Port of Long Beach, 925 Harbor Plaza, Long Beach, CA 90802.

SUPPLEMENTARY INFORMATION: 1. Project Site and Background Information. The Proposed Project site is located at Berth D-44 on Pier D in the Port of the Beach (Port). The site is currently owned by L.G. Everist, Inc. and would be leased to Eagle Rock Aggregates for terminal development and operation. The site, located at 1925 Pier D Street, is bounded by Channel 3 to and SSA Matson to the north, G.P. Gypsum to the east, berths D-41, D-42, and D-43 to the west, and Pier D Street to the south. The site was previously used as an aggregate import terminal by Connolly-Pacific Company who operated the terminal from 2000 until 2009. The terminal received pre-sorted aggregate that was barged by diesel-powered tugs boats, where it was off-loaded and stockpiled by conveyor systems.

2. Proposed Action. The Project applicant, Eagle Rock Aggregates, proposes to construct a sand, gravel and granite aggregate receiving, storage, and distribution terminal. The Project site is 8.3 acres in size, of which the Project footprint would occupy 7.25 acres. The proposed dredging and wharf modifications would prepare the site to accept Panamax-class vessels which would deliver aggregate material to the site. The Proposed Project would be dredged to -44 feet Mean Lower Low Water (MLLW) over the majority of the dredge footprint. In addition, Eagle Rock Aggregates would conduct advanced maintenance dredging of an additional 2 feet (to -46 MLLW) to mitigate future accumulation of sediments, which are likely to accrete once the facility is operational. The total proposed dredge volume is approximately 6,000 cubic yards. Eagle Rock Aggregates has coordinated with the Dredge Material Management Team/Contaminated Sediments Task Force on disposal options. The dredge material is scheduled for disposal in the Port's confined disposal facility associated with the Middle Harbor Redevelopment Project, which has been approved by the Corps under a separate permit (Corps File No. SPL-2004-01053-AOA).

Wharf improvements would include the construction of a berthing system consisting of 28 steel piles driven into the adjacent uplands to provide anchor points for two V-shaped stiff-legs that would extend overwater to support the Panamax-class vessels, followed by concrete forming and the installation of additional steel legs and land-based conveyor system. These improvements, along with the land-based installation of scales and conveyor equipment would prepare the site to receive aggregate via vessel and transport via trucks from the site. No discharge of fill material into waters of the U.S. is proposed.

3. Issues. There are several potential issue that will be addressed in the DEIS/DEIR. Additional issues may be identified during the scoping process. Issues initially identified as potentially significant include:

1. Air pollutant emissions from construction and operation, including a health risk analysis.

2. Marine water resources, including potential impacts on marine biological resources.

3. Traffic, including navigational issues, and transportation related impacts.

4. Cumulative impacts.

In addition, the DEIS/DEIR will address other issues relating to the Corps' permit action including, but not limited to greenhouse gas emissions, aesthetics, water quality, noise and cumulative effects.

4. Alternatives. Alternatives initially being considered for the Proposed Project include the following:

(1) Aggregate receiving and storage terminal utilizing Panamax-class vessels, with dredging and wharf modifications (Preferred Alternative);

(2) Aggregate receiving and storage terminal where vessel discharges aggregate material to barges prior to reaching the project site, without dredging or wharf improvements (No Federal Action).

Additional alternatives are currently being considered for the Proposed Project. These alternatives with be further formulated and developed during the scoping process and an appropriate range of alternatives will be included in the DEIS/DEIR.

5. Scoping Process. The Corps and the Port will jointly conduct a scoping meeting for the Proposed Project. English and Spanish translation, as well as sign language translation services, will be provided at the meeting. The public scoping meeting will be held to receive public comment and assess public concerns regarding the appropriate scope of the DEIS/DEIR. Participation in the public meeting by Federal, state, and local agencies and other interested organizations and persons is encouraged. The Corps will also be coordinating with the U.S. Fish & Wildlife under the Fish & Wildlife Coordination Act and Endangered Species Act, and with the National Marine Fisheries Service under the Magnuson-Stevens Fisheries Act. Additionally the DEIS/DEIR will assess the consistency of the proposed Action with the Coastal Zone Management Act and potential water quality impacts pursuant to Section 401 of the Clean Water Act. The public scoping meeting for the DEIS/DEIR will be held at the Long Beach City Council Chambers, 333 West Ocean Boulevard, Long Beach, California on November 2, 2011, and will start at 6 pm. Written comments will be accepted until November 16, 2011.

6. Availability of the DEIS/DEIR. The joint lead agencies expect the DEIS/DEIR to be published and circulated in early 2012. A Public Hearing will also be held during the public comment period for the DEIS/DEIR.

Dated: October 5, 2011.
David J. Castanon,
Chief, Regulatory Division, Los Angeles District.

[FR Doc. 2011-26660 Filed 10-13-11; 8:45 am]

BILLING CODE 3720-58-P